DEPARTMENT OF THE INTERIOR

National Park Service

[NPS-WASO-NRNHL-DTS#-36093; PPWOCRADI0, PCU00RP14.R50000]

National Register of Historic Places; Notification of Pending Nominations and Related Actions

AGENCY: National Park Service, Interior.

ACTION: Notice.

SUMMARY: The National Park Service is soliciting electronic comments on the significance of properties nominated before June 17, 2023, for listing or related actions in the National Register of Historic Places.

DATES: Comments should be submitted electronically by July 20, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 17, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

CALIFORNIA

Los Angeles County

Milbank, Isaac, House, 236 Adelaide Dr., Santa Monica, SG100009159

Napa County

Trower, Charles, House, 1042 Seminary St., Napa, SG100009160

KANSAS

Brown County

Brien, Abraham, House, (Agriculture-Related Resources of Kansas MPS), 2058 330th St., White Cloud vicinity, MP10000917

Douglas County

Barnes-Hoskinson Farmstead, (Agriculture-Related Resources of Kansas MPS), 715 and 713 East 1728 Rd., Vinland vicinity, MP100009179

Vinland Fair Association Fairgrounds, 1736 North 700 Rd., Baldwin City vicinity, SG100009180

Jefferson County

Harris, Morris, Farmstead, (Agriculture-Related Resources of Kansas MPS), 16010 US 24, Perry vicinity, MP100009181

Reno County

Richardson-Brown, Anna, House, 311 North Peabody St., Nickerson, SG100009182

Saline County

Peters Science Hall, Kansas Wesleyan University, 131 East Cloud, Salina, SG100009183

Sedgwick County

Henderson, C.L., House, (Residential Resources of Wichita, Sedgwick County, Kansas 1870-1957 MPS), 338 North Quentin Ave., Wichita, MP100009184

Shawnee County

Kirkpatrick, Hazen L., House, 1320 Pembroke Ln., Topeka, SG100009185

MICHIGAN

Kent County

Dean, Irving Andrew and Olive Crane Kendall, House, 2350 Leonard St. NW, Grand Rapids, SG100009174

Sligh Furniture Company Building, 211 Logan St. SW, Grand Rapids, SG100009175

Wayne County

Vaughn's Book Store, (The Civil Rights Movement and the African American Experience in 20th Century, Detroit MPS), 12115-12123 Dexter Ave., Detroit, MP100009177

NEW YORK

Chautauqua County

Lakewood Village Hall, 20 West Summit St., Lakewood, SG100009161

Erie County

Wood and Brooks Company Factory Complex, 2101 Kenmore Ave., Tonawanda, SG100009162

Herkimer County

Camp Veery, 100 Echo Island, Eagle Bay, SG100009171

Rockland County

JOHN D. MCKEAN (fireboat), Panco Petroleum Dock, 23 Grassy Point Rd., Stony Point, SG100009157

Schenectady County

Clark Witbeck Co. Warehouse, 132-136 Broadway, Schenectady, SG100009168

St. Lawrence County

Halfway House, 4365 NY 68, Lisbon, SG100009167

Sullivan County

All Souls' Church Summer Camp Historic District, 221 O'Keefe Hill Rd., Parksville, SG100009170

OHIO

Cuyahoga County

Arnold Wooden Ware Co.-Arnold Wholesale Corp. Building, 5207 Detroit Ave., Cleveland, SG100009173

SOUTH CAROLINA

Lexington County

St. Michael's Evangelical Lutheran Church, (Lexington County MRA), North of SC 38, Irmo, 83004664

UTAH

Salt Lake County

Fitzgerald, Perry and Agnes, House and Cabin (Boundary Decrease), (Draper, Utah MPS), 1160 East Pioneer Ave., Draper, BC100009193

WISCONSIN

Oneida County

Texaco Service Station, 329 Front St., Minocqua, SG 100009186

WYOMING

Carbon County

Nichols, Lora Webb, House, 808 Winchell Ave., Encampment, SG100009172

Additional documentation has been received for the following resources:

MICHIGAN

Wayne County

Second Baptist Church of Detroit (Additional Documentation), 441 Monroe St., Detroit, AD75000970

NEW HAMPSHIRE

Strafford County

New Durham Meetinghouse and Pound (Additional Documentation), Old Bay Rd., New Durham, AD80000312

NEW YORK

Delaware County

Lordville Presbyterian Church (Additional Documentation), (Upper Delaware Valley, New York and Pennsylvania MPS), Lordville Rd., Lordville, AD00000052

Ulster County

Lake Mohonk Mountain House Complex (Additional Documentation), NW of New Paltz, between Wallkill Valley and Roundout Valley, New Paltz, AD73001280

OHIO

Montgomery County

Steele's Hill-Grafton Hill Historic District (Additional Documentation), Roughly bounded by Grand, Plymouth, Forest, and Salem, Dayton, AD86001237

Nominations submitted by Federal Preservation Officers:

The State Historic Preservation Officer reviewed the following nominations and responded to the Federal Preservation Officer within 45 days of receipt of the nominations and supports listing the properties in the National Register of Historic Places.

ALASKA

Lake and Peninsula Borough, Snipe Lake Archeological District, Address Restricted, Port Alsworth vicinity, SG100009152

Chilikadrotna Headwaters Archeological District, Address Restricted, Port Alsworth vicinity, SG100009155

MISSISSIPPI

Lee County

Chokkilissa'-Old Town, Address Restricted, Tupelo vicinity, SG100009154

Authority: Section 60.13 of 36 CFR part 60.

Dated: June 22, 2023.
Sherry A. Frear,
Chief, National Register of Historic Places/National Historic Landmarks Program.

[FR Doc. 2023-14136 Filed 7-3-23; 8:45 am]

BILLING CODE 4312-52-P